INTERNATIONAL TRADE COMMISSION

[Investigation Nos. 701-TA-476 and 731-TA-1179 (Final)]

Multilayered Wood Flooring From China

Determinations

On the basis of the record ¹ developed in the subject investigations, the United States International Trade Commission (Commission) determines, pursuant to sections 705(b) and 735(b) of the Tariff Act of 1930 (19 U.S.C. 1671d(b) and 19 U.S.C. 1673d(b)) (the Act), that an industry in the United States is materially injured by reason of those imports from China of multilayered wood flooring, provided for in subheadings 4409.10, 4409.29, 4412.31, 4412.32, 4412.39, 4412.94, 4412.99, 4418.71, 4418.72, 4418.79.00, and 4418.90 of the Harmonized Tariff Schedule of the United States, that the U.S. Department of Commerce has determined are subsidized and/or sold in the United States at less than fair value (“LTFV”).²

¹ The record is defined in sec. 207.2(f) of the Commission's Rules of Practice and Procedure (19 CFR 207.2(f)).

² Vice Chairman Irving A. Williamson and Commissioners Charlotte R. Lane, Shara L. Aranoff, and Dean A. Pinkert voted in the affirmative. Chairman Deanna Tanner Okun and Commissioner Daniel R. Pearson voted in the negative. As a result of the USITC's affirmative determinations, Commerce will issue antidumping and countervailing duty orders on imports of this product from China.

Background

The Commission instituted these investigations effective October 21, 2010, following receipt of petitions filed with the Commission and Commerce on behalf of the Coalition for American Hardwood Parity (“CAHP”), an ad hoc association of U.S. manufacturers of multilayered wood flooring. The following companies are members of the CAHP: Anderson Hardwood Floors, LLC, Fountain Inn, SC; Award Hardwood Floors, Wausau, WI; From the Forest, Weston, WI; Howell Hardwood Flooring, Dothan, AL; Mannington Mills, Inc., Salem, NJ; Nydree Flooring, Forest, VA; and Shaw Industries Group, Inc., Dalton, GA. The final phase of the investigations was scheduled by the Commission following notification of preliminary determinations by Commerce that imports of multilayered wood flooring from China were subsidized within the meaning of section 703(b) of the Act (19 U.S.C. 1671b(b)) and sold at less than fair value within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 9, 2011 (76 FR 33782). The hearing was held in Washington, DC, on October 12, 2011, and all persons who requested the opportunity were permitted to appear in person or by counsel.

The Commission transmitted its determinations in these investigations to the Secretary of Commerce on December 1, 2011. The views of the Commission are contained in USITC Publication 4278 (December 2011), entitled Multilayered Wood Flooring from China: Investigation Nos. 701-TA-476 and 731-TA-1179 (Final).

By order of the Commission.
Issued: December 1, 2011.
James R. Holbein,
Secretary to the Commission.

[FR Doc. 2011-31349 Filed 12-6-11; 8:45 am]

BILLING CODE 7020-02-P